DEPARTMENT OF ENERGY

Federal Energy Regulatory Commission

Combined Notice of Filings

Take notice that the Commission has received the following Natural Gas Pipeline Rate and Refund Report filings:

Filings Instituting Proceedings

Docket Numbers: RP13-540-000.

Applicants: Trailblazer Pipeline Company LLC.

Description: Revisions to FM, Waiver and Indemnification Sections to be effective 3/6/2013.

Filed Date: 2/4/13.

Accession Number: 20130204-5130.

Comments Due: 5 p.m. e.t. 2/19/13.

Docket Numbers: RP13-541-000.

Applicants: Iroquois Gas Transmission System, L.P.

Description: 02/04/13 Negotiated Rates—JP Morgan Ventures Corp (HUB)—6025-89 to be effective 2/2/2013.

Filed Date: 2/4/13.

Accession Number: 20130204-5134.

Comments Due: 5 p.m. e.t. 2/19/13.

Docket Numbers: RP13-542-000.

Applicants: Equitrans, L.P.

Description: Equitrans, L.P. submits Petition for partial waiver of tariff to defer Pipeline Safety Cost Tracker update filing.

Filed Date: 2/5/13.

Accession Number: 20130205-5067.

Comments Due: 5 p.m. e.t. 2/8/13.

Docket Numbers: RP13-543-000.

Applicants: White River Hub, LLC.

Description: Sec. 6.18 Request to Acquire Released Capacity to be effective 3/11/2013.

Filed Date: 2/5/13.

Accession Number: 20130205-5091.

Comments Due: 5 p.m. e.t. 2/19/13.

Docket Numbers: RP13-544-000.

Applicants: Iroquois Gas Transmission System, L.P.

Description: 02/05/13 Negotiated Rates—Sequent Energy Management (HUB)—3075-89 to be effective 2/4/2013.

Filed Date: 2/5/13.

Accession Number: 20130205-5094.

Comments Due: 5 p.m. e.t. 2/19/13.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

Filings in Existing Proceedings

Docket Numbers: RP13-124-003.

Applicants: Hardy Storage Company, LLC.

Description: NAESB 2.0 Compliance to be effective 12/1/2012.

Filed Date: 2/4/13.

Accession Number: 20130204-5137.

Comments Due: 5 p.m. e.t. 2/19/13.

Docket Numbers: RP13-40-002.

Applicants: National Grid LNG, LP.

Description: NAESB v.3.0.0 to be effective 12/1/2012.

Filed Date: 2/4/13.

Accession Number: 20130204-5058.

Comments Due: 5 p.m. e.t. 2/19/13.

Docket Numbers: RP13-43-002.

Applicants: Bluewater Gas Storage, LLC.

Description: Bluewater Feb 5 NAESB compliance to be effective 12/1/2012.

Filed Date: 2/5/13.

Accession Number: 20130205-5087.

Comments Due: 5 p.m. e.t. 2/19/13.

Docket Numbers: RP13-44-002.

Applicants: SG Resources Mississippi, L.L.C.

Description: SG Resources Feb 5 NAESB Compliance to be effective 12/1/2012.

Filed Date: 2/5/13.

Accession Number: 20130205-5089.

Comments Due: 5 p.m. e.t. 2/19/13.

Docket Numbers: RP13-45-002.

Applicants: Pine Prairie Energy Center, LLC.

Description: Pine Prairie Revise NAESB filing to be effective 12/1/2012.

Filed Date: 2/5/13.

Accession Number: 20130205-5090.

Comments Due: 5 p.m. e.t. 2/19/13.

Any person desiring to protest in any the above proceedings must file in accordance with Rule 211 of the Commission's Regulations (18 CFR 385.211) on or before 5:00 p.m. Eastern time on the specified comment date.

The filings are accessible in the Commission's eLibrary system by clicking on the links or querying the docket number.

eFiling is encouraged. More detailed information relating to filing requirements, interventions, protests, and service can be found at: http://www.ferc.gov/docs-filing/efiling/filing-req.pdf. For other information, call (866) 208-3676 (toll free). For TTY, call (202) 502-8659.

Dated: February 6, 2013.
Nathaniel J. Davis, Sr.,
Deputy Secretary

[FR Doc. 2013-03300 Filed 2-12-13; 8:45 am]

BILLING CODE 6717-01-P